DEPARTMENT OF TRANSPORTATION

Federal Aviation Administration

14 CFR Part 39

[Docket No. FAA-2012-1111; Directorate Identifier 2012-NM-114-AD]

RIN 2120-AA64

Airworthiness Directives; Hawker Beechcraft Corporation (Type Certificate Previously Held by Raytheon Aircraft Company; Beech Aircraft Corporation) Airplanes

AGENCY: Federal Aviation Administration (FAA), DOT.

ACTION: Notice of proposed rulemaking (NPRM).

SUMMARY: We propose to adopt a new airworthiness directive (AD) for certain Hawker Beechcraft Corporation (Type Certificate previously held by Raytheon Aircraft Company; Beech Aircraft Corporation) Model 400A airplanes. This proposed AD was prompted by a report that the wiring for the 5-volt direct current (DC) system is undersized and does not have adequate circuit protection for the smaller gauge wire. This proposed AD would require installing an in-line fuse in the 5-volt DC system for each of the five instrument lighting control power supplies. We are proposing this AD to prevent failure of the wiring, which could result in smoke in the cockpit, loss of cockpit lighting, and potential damage to surrounding wiring for other cockpit equipment such as the stick shaker function or angle-of-attack indicators.

DATES: We must receive comments on this proposed AD by December 20, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Hawker Beechcraft Corporation, Department 62, P.O. Box 85, Wichita, KS 67201-0085; telephone 316-676-8238; fax 316-676-6706; email tmdc@hawkerbeechcraft.com; Internet https://www.hawkerbeechcraft.com/service_support/pubs. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Richard Rejniak, Aerospace Engineer, Electrical Systems and Avionics Branch, ACE-119W, FAA, Wichita Aircraft Certification Office, 1801 Airport Road, Room 100, Mid-Continent Airport, Wichita, Kansas 67209; phone: (316) 946-4128; fax (316) 946-4107; email: richard.rejniak@faa.gov.

SUPPLEMENTARY INFORMATION:

Comments Invited

We invite you to send any written relevant data, views, or arguments about this proposal. Send your comments to an address listed under the ADDRESSES section. Include “Docket No. FAA-2012-1111; Directorate Identifier 2012-NM-114-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report that the wiring for the 5-volt DC system is undersized and does not have adequate circuit protection for the smaller gauge wire. The wire is adequate for normal electrical loads, but it cannot safely handle the power supply's maximum current. This condition, if not corrected, could result in failure of the wiring, which could result in smoke in the cockpit, loss of cockpit lighting, and potential damage to surrounding wiring for other cockpit equipment such as the stick shaker function or angle-of-attack indicators.

Relevant Service Information

We reviewed Hawker Beechcraft Mandatory Service Bulletin SB 33-4002, dated October 2010. The service information describes procedures for installing an in-line fuse in the 5-volt DC system for each of the five instrument lighting control power supplies.

FAA's Determination

We are proposing this AD because we evaluated all the relevant information and determined the unsafe condition described previously is likely to exist or develop in other products of the same type design.

Proposed AD Requirements

This proposed AD would require accomplishing the actions specified in the service information described previously.

Clarification of Service Bulletin Note

The Hawker Beechcraft Mandatory Service Bulletin SB 33-4002, dated October 2010, includes a note in the Accomplishment Instructions to inform operators to contact Hawker Beechcraft “should any difficulty be encountered” in accomplishing the service bulletin. We have included a statement in paragraph (g) of this proposed AD to clarify that any deviation from the instructions provided in that service bulletin must be approved as an alternative method of compliance under paragraph (i) of this proposed AD.

Costs of Compliance

We estimate that this proposed AD affects 421 airplanes of U.S. registry.

We estimate the following costs to comply with this proposed AD:

Estimated Costs
Action | Labor cost | Parts cost | Cost per product | Cost on U.S. operators
Installation | 10 work-hours × $85 per hour = $850 | $285 | $1,135 | $477,835

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Hawker Beechcraft Corporation (Type Certificate Previously Held by Raytheon Aircraft Company; Beech Aircraft Corporation): Docket No. FAA-2012-1111; Directorate Identifier 2012-NM-114-AD.

(a) Comments Due Date

We must receive comments by December 20, 2012.

(b) Affected ADs

None.

(c) Applicability

This AD applies to the airplanes identified in paragraphs (c)(1) and (c)(2) of this AD, certificated in any category.

(1) Hawker Beechcraft Corporation (Type Certificate previously held by Raytheon Aircraft Company; Beech Aircraft Corporation) Model 400A airplanes having serial numbers RK-45, and RK-49 through RK 353 inclusive.

(2) Hawker Beechcraft Corporation (Type Certificate previously held by Raytheon Aircraft Company; Beech Aircraft Corporation) Model 400A airplanes (marketed as Hawker 400XP airplanes) having serial numbers RK-354 through RK-594 inclusive.

(d) Subject

Joint Aircraft System Component (JASC)/Air Transport Association (ATA) of America Code 2497; Electrical Power System Wiring.

(e) Unsafe Condition

This AD was prompted by a report that the wiring for the 5-volt direct current (DC) system is undersized and does not have adequate circuit protection for the smaller gauge wire. We are issuing this AD to prevent failure of the wiring, which could result in smoke in the cockpit, loss of cockpit lighting, and potential damage to surrounding wiring for other cockpit equipment such as the stick shaker function or angle-of-attack indicators.

(f) Compliance

Comply with this AD within the compliance times specified, unless already done.

(g) Fuse Replacement

Within 400 flight hours or 12 months after the effective date of this AD, whichever occurs first, install an in-line fuse assembly in the 5-volt DC output circuit on each of the five instrument lighting power supplies, in accordance with the Accomplishment Instructions of Hawker Beechcraft Mandatory Service Bulletin SB 33-4002, dated October 2010. A note in the Accomplishment Instructions of Hawker Beechcraft Mandatory Service Bulletin SB 33-4002, dated October 2010, instructs operators to contact Hawker Beechcraft if any difficulty is encountered in accomplishing the service bulletin. However, any deviation from the instructions provided in Hawker Beechcraft Mandatory Service Bulletin SB 33-4002, dated October 2010, must be approved as an alternative method of compliance (AMOC) under paragraph (i) of this AD.

(h) Special Flight Permit

Special flight permits may be issued in accordance with sections 21.197 and 21.199 of the Federal Aviation Regulations (14 CFR 21.197 and 21.199) to operate the airplane to a location where the airplane can be modified (if the operator elects to do so), provided that the flight is conducted under visual flight rules (VFR) day conditions.

(i) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

(1) For more information about this AD, contact Richard Rejniak, Aerospace Engineer, Electrical Systems and Avionics Branch, ACE-119W, FAA, Wichita Aircraft Certification Office, 1801 Airport Road, Room 100, Mid-Continent Airport, Wichita, Kansas 67209; phone: (316) 946-4128; fax (316) 946-4107; email: richard.rejniak@faa.gov.

(2) For service information identified in this AD, contact Hawker Beechcraft Corporation, Department 62, P.O. Box 85, Wichita, KS 67201-0085; telephone 316-676-8238; fax 316-676-6706; email tmdc@hawkerbeechcraft.com; Internet https://www.hawkerbeechcraft.com/service_support/pubs. You may review copies of the referenced service information at the FAA, Transport Airplane Directorate, 1601 Lind Avenue SW., Renton, WA. For information on the availability of this material at the FAA, call 425-227-1221.

Issued in Renton, Washington, on October 24, 2012.
Kalene C. Yanamura,
Acting Manager, Transport Airplane Directorate, Aircraft Certification Service.

[FR Doc. 2012-26958 Filed 11-2-12; 8:45 am]

BILLING CODE 4910-13-P